DEPARTMENT OF THE INTERIOR

Bureau of Land Management

[LLCO910000 L11100000.DO0000]

Notice of Intent To Incorporate Gunnison Sage-Grouse Conservation Measures Into the Bureau of Land Management Land Use Plans, Colorado and Utah and Prepare an Associated Environmental Impact Statement

AGENCY: Bureau of Land Management, Interior.

ACTION: Notice of Intent.

SUMMARY: In compliance with the National Environmental Policy Act of 1969, as amended (NEPA), and the Federal Land Policy and Management Act (FLMPA) of 1976, as amended, the Bureau of Land Management (BLM) intends to incorporate Gunnison Sage-Grouse Conservation Measures into Resource Management Plans (RMPs) within the range of the species and prepare an associated Environmental Impact Statement (EIS). By this notice, the BLM is announcing the beginning of the scoping process to solicit public comments and identify issues.

DATES: This notice initiates the public scoping process for the EIS. Comments on issues may be submitted in writing until August 18, 2014. The date(s) and location(s) of any scoping meetings will be announced at least 15 days in advance through local news media, newspapers and the BLM Web site at: http://www.blm.gov/co/st/en/BLM_Programs/wildlife/sage-grouse/GUSG.html. In order to be included in the analysis, all comments must be received prior to the close of the 30-day scoping period or 15 days after the last public meeting, whichever is later. Comments that are specific to a particular area or land use plan should be identified as such. We will provide additional opportunities for public participation upon publication of the Draft EIS.

ADDRESSES: You may submit comments on issues and planning criteria related to Gunnison Sage-Grouse planning effort by any of the following methods:

• Web site: http://www.blm.gov/co/st/en/BLM_Programs/wildlife/sage-grouse/GUSG.html; Email: gusg_amend@blm.gov.

• Fax: 303-239-3699.

• Mail: Colorado State Office, 2850 Youngfield Street, Lakewood, CO 80215.

Documents pertinent to this proposal may be examined at the Colorado State Office (see address above); the Colorado Southwest District Office, 2465 South Townsend Avenue, Montrose, CO 81401; and Utah Canyon County District Office, 82 East Dogwood, Moab, UT 84532.

FOR FURTHER INFORMATION CONTACT: Leigh D. Espy, Project Manager, via telephone: 303-239-3801; at the Colorado State Office (see address above); or via email: lespy@blm.gov. You may contact Ms. Espy to have your name added to our mailing list. Persons who use a telecommunications device for the deaf (TDD) may call the Federal Information Relay Service (FIRS) at 1-800-877-8339 to contact the above individual during normal business hours. The FIRS is available 24 hours a day, seven days a week, to leave a message or question with the above individual. You will receive a reply during normal business hours.

SUPPLEMENTARY INFORMATION: In January 2013, the U.S. Fish and Wildlife Service (FWS) published its proposed listing and proposed critical habitat decision for the Gunnison Sage-Grouse indicating that listing of the species as “Endangered” was warranted. The inadequacy of regulatory mechanisms to conserve the Gunnison Sage-Grouse and its habitat was identified as a significant threat in the FWS preliminary finding on the petition to list the Gunnison Sage-Grouse as an endangered species. The FWS has proposed conservation measures to be included in RMPs as the principal mechanism to assure adequate conservation of the Gunnison Sage-Grouse and its habitat on public lands. In view of the identified threats to the Gunnison Sage-Grouse, the BLM proposes incorporating consistent objectives and conservation measures to protect Gunnison Sage-Grouse and its habitat into RMPs by July 2016. The BLM plans to prepare an EIS to analyze proposed amendments within the range of the species for the following RMPs:

• Colorado

○ San Luis RMP (1991)

○ Gunnison RMP (1993)

○ San Juan/San Miguel RMP (1985) (currently under revision in the Tres Rios and Uncompahgre RMPs)

○ Uncompahgre Basin RMP (1989) (currently under revision in the Dominquez-Escalante National Conservation Area [NCA] RMP and Uncompahgre RMP)

○ Grand Junction RMP (1987) (Currently under revision in the Grand Junction RMP and the Dominquez-Escalante NCA RMP)

○ Gunnison Gorge NCA RMP (2004)

○ Canyons of the Ancients National Monument RMP (2010)

• Utah

○ Moab RMP (2008)

○ Monticello RMP (2008)

Where an ongoing plan revision or amendment may not be completed by July 2016, the date of the underlying completed RMP is also listed, as it may be amended as part of this EIS effort. This amendment may modify planning decisions in the NCAs and/or the National Monument listed above, consistent with the designation.

The purpose of the public scoping process is to determine relevant issues relating to the conservation of the Gunnison Sage-Grouse and its habitat that will influence the scope of the environmental analysis, including alternatives, and guide the process for developing the EIS. The BLM and FWS identified preliminary issues for the planning areas, including sagebrush habitat management practices, science directly applicable to protection of the Gunnison Sage-Grouse, and the effects of sagebrush habitat management on other public land resources including: Fluid minerals, coal mining, hard rock mining, mineral materials, renewable energy development, rights-of-way (including transmission), invasive species, livestock grazing, vegetation management, fire, land tenure, off-highway vehicle management, and recreation. Additionally, as part of this EIS and planning process, the BLM intends to identify and apply appropriate mitigation objectives and management actions to meet conservation objectives for the Gunnison Sage-Grouse. These objectives and management actions could include on-site and regional mitigation measures. Preliminary planning criteria include:

• The BLM will consider allocative and/or prescriptive standards to conserve Gunnison Sage-Grouse and their habitat on public land, as well as habitat objectives and management actions designed to restore or enhance proposed Gunnison Sage-Grouse unoccupied proposed critical habitat.

• The BLM will use the Gunnison Sage-Grouse Rangewide Conservation Plan (Rangewide Steering Committee, 2005), and any other appropriate resources to identify Gunnison Sage-Grouse habitat requirements and best management practices.

• The BLM will consider FWS-developed Gunnison Sage-Grouse conservation measures.

• The planning effort will comply with FLPMA; NEPA; Council on Environmental Quality regulations at 40 CFR parts 1500-1508; Department of the Interior Regulations at 43 CFR part 46 and 43 CFR part 1600; the BLM H-1601 Land Use Planning Handbook, “Appendix C: Program-Specific and Resource-Specific Decision Guidance Requirements” for affected resource programs; the 2008 BLM NEPA Handbook (H-1790-1); and all other applicable BLM policies and guidance.

• The planning effort will be limited to making land use planning decisions specific to the conservation of Gunnison Sage-Grouse and its habitat.

• The BLM will consider land use allocations and/or prescriptive standards to conserve Gunnison Sage-Grouse habitat, as well as objectives and management actions to restore, enhance and improve Gunnison Sage-Grouse habitat.

• The planning effort will recognize valid existing rights.

• Lands addressed in the RMP amendments/revisions will be public lands (including split-estate lands) managed by the BLM in Gunnison Sage-Grouse occupied and unoccupied habitats. Decisions in the RMP amendments/revisions will apply only to Federal lands and minerals administered by the BLM.

• The BLM will use a collaborative and multi-jurisdictional approach, where appropriate, to determine the goals and objectives of public lands for the conservation of Gunnison Sage-Grouse and their habitat.

• The BLM will consider a reasonable range of alternatives, including appropriate management prescriptions that focus on the relative values of resources while contributing to the conservation of the Gunnison Sage-Grouse and sage-grouse habitat.

• The BLM will address socioeconomic impacts of the alternatives developed. Socioeconomic analyses will use an accepted input-output quantitative model such as Impact Analysis for Planning or Regional Input-Output Modeling System.

• The BLM will use current scientific information, research, technologies, and results of inventory, monitoring, and coordination to determine appropriate local and regional management strategies that will enhance or restore Gunnison Sage-Grouse habitat.

• Gunnison Sage-Grouse habitat management that intersects with Wilderness Study Areas (WSA) on public lands administered by the BLM will be guided by the BLM Manual Section—6330 Management of Wilderness Study Areas. Land use allocations made for WSAs must be consistent with laws, regulations and policies related to WSA management.

• For BLM-administered lands, all activities and uses within Gunnison Sage-Grouse habitat will follow existing land health standards. Standards and guidelines for livestock grazing and other applicable programs will be applicable to all alternatives for BLM lands.

• The BLM will consult with Indian tribes to identify sites, areas and objectives important to their cultural and religious heritage within Gunnison Sage-Grouse habitat.

• The BLM will coordinate and communicate with state, local and tribal governments to ensure the BLM considers provisions of pertinent plans; seek to resolve inconsistencies between state, local and tribal plans; and provide ample opportunities for state, local and tribal governments to comment on the development of amendments or revisions.

• The planning effort will be based on the principles of Adaptive Management.

• The most current approved BLM corporate spatial data will be supported by current metadata and will be used to ascertain Gunnison Sage-Grouse habitat extent and quality. Data will be consistent with the principles of the Information Quality Act of 2000.

• The BLM will use the FWS and appropriate State game and fish agencies' Gunnison Sage-Grouse data and expertise to the fullest extent practicable in making management determinations on Federal lands. The BLM recognizes State game and fish agencies' jurisdiction as the primary management agencies for species not managed under the Endangered Species Act.

You may submit comments on issues and planning criteria in writing to the BLM at any public scoping meeting, or you may submit them to the BLM using one of the methods listed in the ADDRESSES section above. To be most helpful, you should submit comments by the close of the 30-day scoping period or within 15 days after the last public meeting, whichever is later.

The public is also invited to nominate or recommend areas on public lands for Gunnison Sage-Grouse and its habitat within the planning areas identified above to be considered as Areas of Critical Environmental Concern as a part of this planning process (BLM Manual 1613.3.31).

Parties interested in leasing and development of Federal coal in the planning areas should provide coal resources data for their area(s) of interest. Specifically, information is requested on the location, quality and quantity of Federal coal with development potential, and on surface resource values related to the 20 coal unsuitability criteria described in 43 CFR part 3461. This information will be used for any necessary updating of coal screening determinations (43 CFR 3420.1-4) in the Decision Area and in the environmental analysis.

The BLM will use the NEPA public participation requirements to assist the agency in satisfying the public involvement requirements under Section 106 of the National Historic Preservation Act (NHPA) (16 U.S.C. 470(f)) pursuant to 36 CFR 800.2(d)(3). The information about historic and cultural resources within the area potentially affected by the proposed action will assist the BLM in identifying and evaluating impacts to such resources in the context of both NEPA and Section 106 of the NHPA. The BLM will consult with Indian tribes on a government-to-government basis in accordance with Executive Order 13175 and other policies. Tribal concerns, including impacts on Indian trust assets and potential impacts to cultural resources, will be given due consideration. Federal, state and local agencies, along with tribes and other stakeholders that may be interested in or affected by the proposed action the BLM is evaluating, are invited to participate in the scoping process and, if eligible, may request or be requested by the BLM to participate in the development of the environmental analysis as a cooperating agency.

The BLM will evaluate identified issues to be addressed in the plan amendments/revisions, and will place them into one of three categories:

1. Issues to be resolved in the plan;

2. Issues to be resolved through policy or administrative action; or

3. Issues beyond the scope of this plan.

The BLM will provide an explanation in the Draft EIS as to why an issue was placed in category two or three. The public is also encouraged to help identify any management questions and concerns that should be addressed in the plan amendments/revisions. The BLM will work collaboratively with interested parties to identify the management decisions that are best suited to local, regional and national needs and concerns.

The BLM will use an interdisciplinary approach to develop the plan amendments in order to consider the variety of resource issues and concerns identified. Specialists with expertise in the following disciplines will be involved in the planning process: Rangeland management, minerals and geology, vegetation management, fire, outdoor recreation, wildlife, lands and realty, hydrology, soils, sociology, and economics.

Before including your address, phone number, email address, or other personal identifying information in your comment, you should be aware that your entire comment—including your personal identifying information—may be made publicly available at any time. While you can ask us in your comment to withhold your personal identifying information from public review, we cannot guarantee that we will be able to do so.

Authority: 40 CFR 1501.7 and 43 CFR 1610.2.

David McCormack,
Acting BLM Colorado State Director.

[FR Doc. 2014-16819 Filed 7-17-14; 8:45 am]

BILLING CODE 4310-JB-P